ENVIRONMENTAL PROTECTION AGENCY

[FRL-7391-1]

Public Water System Supervision Program Revision for the State of Colorado

AGENCY: Environmental Protection Agency (EPA).

ACTION: Notice.

SUMMARY: The State of Colorado has revised its Public Water System Supervision (PWSS) primacy program by adopting regulations for the Consumer Confidence Report Rule. Having determined that these revisions meet all pertinent requirements in the Safe Drinking Water Act, and EPA's implementing regulations, the EPA approves them.

Today's approval action does not extend to public water systems in Indian Country. Please see Supplementary Information, Item B.

DATES: Any member of the public is invited to submit written comments and/or request a public hearing on this determination by November 6, 2002. Please see Supplementary Information, Item C, for information on submitting comments and requesting a hearing. If no hearing is requested or granted, then this action shall become effective November 6, 2002. If a public hearing is requested and granted, then this determination shall not become effective until such time following the hearing as the Regional Administrator issues an order affirming or rescinding this action.

ADDRESSES: Written comments and requests for a public hearing should be addressed to: Robert E. Roberts, Regional Administrator, c/o Qian Zhang (8P-W-MS), U.S. EPA, Region 8, 999 18th Street, Suite 300, Denver, CO 80202-2466.

All documents relating to this determination are available for inspection at the following locations: (1) U.S. EPA, Region 8, Municipal Systems Unit, 999 18th Street (4th Floor), Denver, CO 80202-2466; (2) Colorado Department of Public Health and Environment (CDPHE), Drinking Water Section, 4300 Cherry Creek Drive South, Denver, CO.

FOR FURTHER INFORMATION CONTACT: Qian Zhang, Municipal Systems Unit, EPA, Region 8 (8P-W-MS), 999 18th Street, Suite 300, Denver, CO 80202-2466, 303-312-6267.

SUPPLEMENTARY INFORMATION: EPA approved Colorado's application for assuming primary enforcement authority for the PWSS program, pursuant to section 1413 of the Safe Drinking Water Act (SDWA), 42 U.S.C. 300g-2, and 40 CFR part 142 (see 48 FR 55173). CDPHE administers Colorado's PWSS program. The State of Colorado has revised its Public Water System Supervision (PWSS) primacy program by adopting regulations for the Consumer Confidence Report Rule that correspond to regulations for 40 CFR part 141, subpart O.

A. Why Are Revisions to State Programs Necessary?

States with primary PWSS enforcement authority must comply with the requirements of 40 CFR part 142 for maintaining primacy. They must adopt regulations that are at least as stringent as the National Primary Drinking Water Regulations (NPDWRs) at 40 CFR part 141. (40 CFR 142.10(a)). Changes to state programs may be necessary as federal primacy requirements change, as states must adopt all new and revised NPDWRs in order to retain primacy. (40 CFR 142.12(a)).

B. How Does Today's Action Affect Indian Country (18 U.S.C. 1151) in Colorado?

Colorado is not authorized to carry out its Public Water System Supervision program in Indian country. This includes, but is not limited to, lands within the exterior boundaries of the following Indian reservations located within the State of Colorado:

a. Southern Ute Indian Reservation;

b. Ute Mountain Ute Indian Reservation;

and any other lands which are Indian country as defined in 18 U.S.C. 1151.

C. Requesting a Hearing and Submitting Written Comments.

Any request for a public hearing shall include the following: (1) The name, address, and telephone number of the individual, organization, or other entity requesting a hearing; (2) a brief statement of the requesting person's interest in the Regional Administrator's determination and of information that the requesting person intends to submit at such hearing; and (3) the signature of the individual making the request, or, if the request is made on behalf of an organization or other entity, the signature of the responsible official of the organization or other entity.

Notice of any hearing shall be given not less than fifteen (15) days prior to the time scheduled for the hearing. Such notice will be made by the Regional Administrator in the Federal Register and in newspapers of general circulation in the State of Colorado. A notice will also be sent to the person(s) requesting the hearing as well as to the State of Colorado. The hearing notice will include a statement of purpose, information regarding time and location, and the address and telephone number where interested persons may obtain further information. A final determination will be made upon review of the hearing record.

Frivolous or insubstantial requests for a hearing may be denied by the Regional Administrator. However, if a substantial request is made within thirty (30) days after this notice, a public hearing will be held.

Please bring this notice to the attention of any persons known by you to have an interest in this determination.

Dated: September 26, 2002.
Robert E. Roberts,
Regional Administrator, Region 8.

[FR Doc. 02-25417 Filed 10-4-02; 8:45 am]

BILLING CODE 6560-50-P